DEPARTMENT OF COMMERCE

Foreign-Trade Zones Board

[Order No. 1839]

Reorganization and Expansion of Foreign-Trade Zone 99 Under Alternative Site Framework; Wilmington, DE

Pursuant to its authority under the Foreign-Trade Zones Act of June 18, 1934, as amended (19 U.S.C. 81a-81u), the Foreign-Trade Zones Board (the Board) adopts the following Order:

Whereas, the Board adopted the alternative site framework (ASF) (74 FR 1170, 01/12/2009; correction 74 FR 3987, 01/22/2009; 75 FR 71069-71070, 11/22/2010) as an option for the establishment or reorganization of general-purpose zones;

Whereas, the State of Delaware, grantee of Foreign-Trade Zone 99, submitted an application to the Board (FTZ Docket 81-2011, filed 12/19/2011) for authority to reorganize and expand under the ASF with a service area of New Castle, Kent and Sussex Counties, Delaware, in and adjacent to the Wilmington U.S. Customs and Border Protection port of entry, FTZ 99's existing Site 1 would be categorized as a magnet site, and the grantee proposes one initial usage-driven site (Site 2);

Whereas, notice inviting public comment was given in the Federal Register (76 FR 80331, 12/23/2011) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to reorganize and expand FTZ 99 under the alternative site framework is approved, subject to the FTZ Act and the Board's regulations, including Section 400.13, to the Board's standard 2,000-acre activation limit for the overall general-purpose zone project and to a three-year ASF sunset provision for usage-driven sites that would terminate authority for Site 2 if no foreign-status merchandise is admitted for a bona fide customs purpose by July 31, 2015.

Signed at Washington, DC, this 5th day of July 2012.
Paul Piquado,
Assistant Secretary of Commerce for Import Administration, Alternate Chairman, Foreign-Trade Zones Board.

[FR Doc. 2012-17167 Filed 7-12-12; 8:45 am]

BILLING CODE 3510-DS-P